GENERAL SERVICES ADMINISTRATION

[OMB Control No. 3090-0080]

General Services Administration Acquisition Regulation; Information Collection; Final Payment Under Building Services Contract

AGENCY: Office of the Chief Acquisition Officer, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding final payment under building services contract. The clearance currently expires on September 30, 2008.

Public comments are particularly invited on: Whether this collection of information is necessary and whether it will have practical utility; whether our estimate of the public burden of this collection of information is accurate, and based on valid assumptions and methodology; and ways to enhance the quality, utility, and clarity of the information to be collected.

DATES: Submit comments on or before: August 5, 2008.

FOR FURTHER INFORMATION CONTACT: Ms. Meredith Murphy, Contract Policy Division, GSA, (202) 208-6925.

ADDRESSES: Submit comments regarding this burden estimate or any other aspect of this collection of information, including suggestions for reducing this burden to the Regulatory Secretariat (VPR), General Services Administration, Room 4035, 1800 F Street, NW., Washington, DC 20405. Please cite OMB No. 3090-0080, Final Payment Under Building Services Contract, in all correspondence.

SUPPLEMENTARY INFORMATION:

A. Purpose

GSAR clause 552.232-72 requires building services contractors to submit a release of claims before final payment is made.

B. Annual Reporting Burden

Respondents: 2000.

Responses Per Respondent: 1.

Hours Per Response: .1.

Total Burden Hours: 200.

Obtaining Copies of Proposals: Requesters may obtain a copy of the information collection documents from the General Services Administration, Regulatory Secretariat (VPR), 1800 F Street, NW., Room 4035, Washington, DC 20405, telephone (202) 501-4755. Please cite OMB Control No. 3090-0080, Final Payment Under Building Services Contract, in all correspondence.

Dated: May 30, 2008.
Al Matera,
Director, Office of Acquisition Policy.

[FR Doc. E8-12490 Filed 6-5-08; 8:45 am]

BILLING CODE 6820-61-M